ENVIRONMENTAL PROTECTION AGENCY

40 CFR Part 180

[EPA-HQ-OPP-2013-0574; FRL-9919-58]

Receipt of Pesticide Petition Filed for Residues of Bacillus subtilis Strain IAB/BS03; Reopening of Comment Period

AGENCY: Environmental Protection Agency (EPA).

ACTION: Notice of filing of petition; reopening of comment period.

SUMMARY: EPA issued a document in the Federal Register of September 12, 2013, announcing the filing of a pesticide tolerance petition for residues of the fungicide, Bacillus subtilis strain IAB/BS03. That pesticide petition requested that EPA establish an exemption from the requirement of a tolerance for residues of that fungicide in or on all food commodities. Through an administrative error, the summary of the pesticide petition was not made available in the docket. Now available in the docket, this document reopens the comment period for that pesticide petition for 30 days to allow for public review and comment.

DATES: Comments must be received on or before January 2, 2015.

ADDRESSES: Submit your comments, identified by docket identification (ID) number EPA-HQ-OPP-2013-0574 and pesticide petition number (PP 3F8177), by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC) (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (7511P), Office of Pesticide Programs, Environmental Protection Agency, 1200 Pennsylvania Ave. NW., Washington, DC 20460-0001; main telephone number: (703) 305-7090; email address: BPPDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed in FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

This document reopens the public comment period established in the Federal Register document of September 12, 2013 (78 FR 56185) (FRL-9399-7) for the pesticide petition (PP 3F8177) filed requesting that the Agency establish an exemption from the requirement of a tolerance for residues of Bacillus subtilis strain IAB/BS03. In that document, the Agency noted that the summary of the pesticide petition prepared by the petitioner, Investigaciones y Aplicaciones Biotecnologicas S.L., Avda, Paret del Patriarca 11-B, Ap. 30, 46113 Moncada (Valencia) Spain, was available in the docket at http://www.regulations.gov. Through an administrative error, the summary of the pesticide petition was not made available in the docket. The Agency has made the summary of the pesticide petition (PP 3F8177) available in the docket under docket ID number EPA-HQ-OPP-2013-0574 at http://www.regulations.gov and is reopening the comment period for that pesticide petition (PP 3F8177) for 30 days to allow for public review and comment.

List of Subjects in 40 CFR Part 180

Environmental protection, Agricultural commodities, Feed additives, Food additives, Pesticides and pests, Reporting and recordkeeping requirements.

Dated: November 19, 2014.
Robert McNally,
Director, Biopesticides and Pollution Prevention Division, Office of Pesticide Programs.

[FR Doc. 2014-28389 Filed 12-2-14; 8:45 am]

BILLING CODE 6560-50-P